ENVIRONMENTAL PROTECTION AGENCY

[FRL-8269-8]

Science Advisory Board Staff Office; Notification of a Meeting of the Science Advisory Board; Integrated Nitrogen Committee

AGENCY: Environmental Protection Agency (EPA).

ACTION: Notice.

SUMMARY: The EPA Science Advisory Board (SAB) Staff Office announces a public face-to-face meeting of the Integrated Nitrogen Committee to develop a work plan for its evaluative study on the need for integrated research and control management strategies.

DATES: The meeting dates are Tuesday, January 30, 2007, from 9 a.m. to 6 p.m. through Wednesday, January 31, 2007 from 9 a.m. to 1 p.m. (eastern standard time).

ADDRESSES: The meeting will be held at the U. S. EPA Science Advisory Board Staff Office Conference Room, Third Floor, 1025 F Street NW., Suite 3700, Washington DC, 20004.

FOR FURTHER INFORMATION CONTACT: Members of the public who wish to obtain further information about this meeting may contact Ms. Kathleen White, Designated Federal Officer (DFO), by mail at EPA SAB Staff Office (1400F), U.S. EPA, 1200 Pennsylvania Avenue, NW., Washington, DC 20460; by telephone at (202) 343-9878; by fax at (202) 233-0643; or by e-mail at white.kathleen@epa.gov. The SAB mailing address is: U.S. EPA, Science Advisory Board (1400F), 1200 Pennsylvania Ave., NW., Washington, DC, 20460. General information about the SAB, as well as any updates concerning the meeting announced in this notice, may be found on the SAB Web site at: http://www.epa.gov/sab.

SUPPLEMENTARY INFORMATION:

Background

All biologically active, photochemically reactive, and radiatively active nitrogen compounds in the atmosphere, hydrosphere, and biosphere are collectively referred to as reactive nitrogen. Over the past few decades, human activities leading to the production of reactive nitrogen exceed that of natural terrestrial ecosystem production at the global scale. Reactive nitrogen has both benefited (e.g., increased food production) and impacted health and welfare of people (e.g., respiratory effects) and ecosystems (e.g., biodiversity loss). Scientific information suggests that reactive nitrogen is accumulating in the environment, and that nitrogen cycling through biogeochemical pathways has a variety of consequences. Environmental research suggests that the management of reactive nitrogen should be viewed from a systems perspective and integrated across environmental media. As examples, urban air pollution from reactive nitrogen may contribute to water pollution; and extensive nitrogen loads in river basins may impact downstream coastal zones. Accordingly, linkages between reactive nitrogen induced environmental and human health effects need to be understood in order to optimize reactive nitrogen research and risk management strategies.

The EPA Science Advisory Board (SAB) was established by 42 U.S.C. 4365 to provide independent scientific and technical advice, consultation, and recommendations to the EPA Administrator on the technical bases for EPA policies and regulations. Understanding EPA's various programs for reactive nitrogen is key to developing scientific and technical recommendations regarding the development of an integrated research and management strategies for reactive nitrogen. The SAB has formed the Integrated Nitrogen Research committee to develop information regarding EPA's nitrogen research and risk management programs. The information will provide the basis for an SAB report that will provide advice and recommendations regarding how the Agency may better integrate reactive nitrogen research and risk management strategies across environmental media and programs. Background information on the formation of this expert committee can be found in a Federal Register Notice published March 14, 2005 (70 FR 12476-12477). The purpose of this meeting is for the Committee to: Initiate discussion about the scientific issues underlying the environmental problems due to reactive nitrogen in the environment; learn more about Agency nitrogen research and control strategies; and to plan its future work.

Availbility of Meeting Materials

A roster of committee members, their biographical sketches, the meeting agenda, and any other materials in support of this meeting will be placed on the SAB Web site at http://www.epa.gov/sab in advance of this meeting.

Procedures for Providing Public Input

Interested members of the public may submit relevant written or oral information for the SAB to consider during the advisory process.

Oral Statements: In general, individuals or groups requesting an oral presentation at a public meeting will be limited to five minutes per speaker, with no more than one hour for all speakers. Interested parties should contact Ms. White, DFO, at the contact information provided above, by January 23, 2007, to be placed on the public speaker list for the January 30-31, 2007 meeting.

Written Statements: Written statements should be received in the SAB Staff Office by January 23, 2007, so that the information may be made available to the SAB for their consideration prior to this meeting. Written statements should be supplied to the DFO in the following formats: one hard copy with original signature at the mailing address provided above, and one electronic copy via e-mail to white.kathleen@epa.gov (acceptable file format: Adobe Acrobat PDF, WordPerfect, MS Word, MS PowerPoint, or Rich Text files in IBM-PC/Windows 98/2000/XP format).

Meeting Accommodations

For information on access or services for individuals with disabilities, please contact Ms. Kathleen White at (202) 343-9878, or via e-mail at white.kathleen@epa.gov. To request accommodation of a disability, please contact Ms. White, preferably at least 10 days prior to the meeting, to give EPA as much time as possible to process your request.

Dated: January 9, 2007.
Anthony F. Maciorowski,
Deputy Director EPA Science Advisory Board Staff Office.

[FR Doc. E7-524 Filed 1-16-07; 8:45 am]

BILLING CODE 6560-50-P